DEPARTMENT OF TRANSPORTATION

National Highway Traffic Safety Administration

49 CFR Part 579

[Docket No. NHTSA 2001-8677; Notice 11]

RIN 2127-AI25

Reporting of Information and Documents About Potential Defects; Correction

AGENCY: National Highway Traffic Safety Administration (NHTSA), DOT.

ACTION: Correcting amendment.

SUMMARY: This document contains a correction to the final early warning reporting rule, which initially was published on July 10, 2002 (67 FR 45822).

DATES: This final rule is effective August 12, 2004.

FOR FURTHER INFORMATION CONTACT: Jonathan White, Office of Defects Investigation, NHTSA (phone: 202-366-5226).

SUPPLEMENTARY INFORMATION: On July 10, 2002, NHTSA published a final rule implementing the early warning reporting (EWR) provisions of the Transportation Recall Enhancement, Accountability, and Documentation (TREAD) Act, 49 U.S.C. 30166(m) (67 FR 45822). At the same time, we reorganized 49 CFR part 573. As a result of that reorganization, 49 CFR 573.5 was renumbered as 49 CFR 573.6.

One section of the EWR regulations, 49 CFR 579.5(a), currently references 49 CFR 573.5(c)(9). In view of the reorganization of part 573, this reference was incorrect. The correct reference is 49 CFR 573.6(c)(9) because, as noted above, section 573.5 was renumbered as section 573.6 in 2002.

Today's amendment corrects this error.

List of Subjects in 49 CFR Part 579

Imports, Motor vehicle safety, Motor vehicles, Reporting and recordkeeping requirements.

Accordingly, 49 CFR part 579 is corrected by making the following correcting amendment.

PART 579—REPORTING OF INFORMATION AND COMMUNICATIONS ABOUT POTENTIAL DEFECTS

1. The authority citation for part 579 continues to read as follows:

Authority: Sec. 3, Pub. L. 106-414, 114 Stat. 1800 (49 U.S.C. 30102-103, 30112, 30117-121, 30166-167); delegation of authority at 49 CFR 1.50.

Subpart A—General

2. Revise paragraph (a) of § 579.5 to read as follows:

§ 579.5 Notices, bulletins, customer satisfaction campaigns, consumer advisories, and other communications.

(a) Each manufacturer shall furnish to NHTSA a copy of all notices, bulletins, and other communications (including those transmitted by computer, telefax, or other electronic means and including warranty and policy extension communiques and product improvement bulletins) other than those required to be submitted pursuant to § 573.6(c)(9) of this chapter, sent to more than one manufacturer, distributor, dealer, lessor, lessee, owner, or purchaser, in the United States, regarding any defect in its vehicles or items of equipment (including any failure or malfunction beyond normal deterioration in use, or any failure of performance, or any flaw or unintended deviation from design specifications), whether or not such defect is safety-related.

* * * * *

Issued on: August 6, 2004.
Kenneth N. Weinstein,
Associate Administrator for Enforcement.

[FR Doc. 04-18353 Filed 8-11-04; 8:45 am]

BILLING CODE 4910-59-P